DEPARTMENT OF COMMERCE

International Trade Administration

[A-570-894]

Certain Tissue Paper Products From the People's Republic of China: Extension of Preliminary Results of Antidumping Duty Administrative Review

AGENCY: Import Administration, International Trade Administration, Department of Commerce.

SUMMARY: The Department of Commerce (“the Department”) is extending the time limit for the preliminary results of the administrative review of certain tissue paper products from the People's Republic of China (“PRC”). This review covers the period March 1, 2006, through February 28, 2007.

DATES: Effective Date: January 18, 2008.

FOR FURTHER INFORMATION CONTACT: Bobby Wong, AD/CVD Operations, Office 9, Import Administration, International Trade Administration, U.S. Department of Commerce, 14th Street and Constitution Avenue, NW., Washington, DC 20230; telephone: (202) 482-0409.

Background

On March 30, 2005, the Department published in the Federal Register an antidumping duty order covering certain tissue paper from the People's Republic of China (“PRC”). See Notice of Amended Final Determination of Sales at Less than Fair Value and Antidumping Duty Order: Certain Tissue Paper Products from the People's Republic of China, 70 FR 16223 (March 30, 2005). On April 27, 2007, the Department published a notice of initiation of the administrative review of the antidumping duty order on certain tissue paper products from the PRC. See Initiation of Antidumping and Countervailing Duty Administrative Reviews, 72 FR 20986 (April 27, 2007).

On November 20, 2007, the Department published a notice extending the time limit for preliminary results in this review by 61 days. See Certain Tissue Paper Products from the People's Republic of China: Extension of Preliminary Results of Antidumping Duty Administrative Review, 72 FR 65298 (November 20, 2007). The preliminary results of this review are currently due no later than January 31, 2008.

Extension of Time Limits for Preliminary Results

Section 751(a)(3)(A) of the Tariff Act of 1930, as amended (“the Act”), and section 351.213(h)(1) of the Department's regulations require the Department to issue the preliminary results of an administrative review within 245 days after the last day of the anniversary month of the order or suspension agreement for which the administrative review was requested, and the final results of the review within 120 days after the date on which the notice of the preliminary results was published in the Federal Register. However, if the Department determines that it is not practicable to complete the review within this time period, section 751(a)(3)(A) of the Act and section 351.213(h)(2) of the Department's regulations allow the Department to extend the 245-day period to 365 days and the 120-day period to 180 days.

Pursuant to section 751(a)(3)(A) of the Act and section 351.213(h) of the Department's regulations, we determine that it is not practicable to complete this administrative review within the statutory time limit of 245 days. Given that the Office of Import Administration, Office 9, conducting this review is currently tasked with the conduct of multiple reviews with various conflicting deadlines, and given limited resources, the Department requires additional time to analyze questionnaire responses, issue supplemental questionnaires, and examine and analyze surrogate value information. Therefore, in accordance with section 751(a)(3)(A) of the Act and section 351.213(h)(2) of the Department's regulations, the Department is fully extending the time limit for the completion of these preliminary results by an additional 59 days. Since a 59-day extension would result in the deadline for the preliminary results falling on March 30, 2008, which is a Sunday, the new deadline for the final results will be the next business day, March 31, 2008.¹ The final results continue to be due 120 days after the publication of the preliminary results.

¹ See Notice of Clarification: Application of “Next Business Day” Rule for Administrative Determination Deadlines Pursuant to the Tariff Act of 1930, As Amended, 70 FR 24533 (May 10, 2005).

This notice is published pursuant to section 751(a)(3)(A) and 777(i)(1) of the Act.

Dated: January 11, 2008.
Stephen J. Claeys,
Deputy Assistant Secretary for Import Administration.

[FR Doc. E8-896 Filed 1-17-08; 8:45 am]

BILLING CODE 3510-DS-P